DEPARTMENT OF THE INTERIOR

Outer Continental Shelf Scientific Committee; Notice of Renewal

AGENCY: Bureau of Ocean Energy Management (BOEM), Interior.

ACTION: Notice of Renewal.

SUMMARY: Following consultation with the General Services Administration, notice is hereby given that the Secretary of the Interior is revising and renewing the Outer Continental Shelf (OCS) Scientific Committee (Committee).

The Committee provides advice on the feasibility, appropriateness, and scientific value of the OCS Environmental Studies Program to the Secretary of the Interior through the Director of BOEM. The Committee reviews the relevance of the research and data being produced to meet BOEM's scientific information needs for decision-making and may recommend changes in scope, direction, and emphasis.

FOR FURTHER INFORMATION CONTACT: Ms. Phyllis Clark, Bureau of Ocean Energy Management, Office of Environmental Program, Environmental Sciences Division, Herndon, Virginia 20170-4817, telephone, (703) 787-1716.

Certification

I hereby certify that the renewal of the OCS Scientific Committee is in the public interest in connection with the performance of duties imposed on the Department of the Interior by 43 U.S.C. 1331 et. seq.

Dated: March 9, 2012.
Ken Salazar,
Secretary of the Interior.

[FR Doc. 2012-6296 Filed 3-14-12; 8:45 am]

BILLING CODE 4310-VH-P